DEPARTMENT OF HEALTH AND HUMAN SERVICES

Indian Health Service

Maternal and Child Health Program

Announcement Type: New Limited Competition.

Funding Announcement Number: HHS-2007-IHS-MHCEP-0001.

Catalog of Federal Domestic Assistance Numbers: 93.231.

DATES: Key Dates:

Application Deadline Date: May 15, 2007.

Review Date: May 17, 2007.

Earliest Anticipated Start Date: May 30, 2007.

Funding Opportunity Description

The Indian Health Service (IHS) Maternal and Child Health Program (MCH) announces a limited competition for cooperative agreements for applications responding to the Secretaries' Initiative on Closing the Health Disparities Gap for Sudden Infant Death Syndrome (SIDS) and Infant Mortality (IM). This program is authorized under Snyder Act, 25 U.S.C. 13, 25 U.S.C. 1621(m), 25 U.S.C. 1653(c), and Indian Health Care Improvement Act Public Law 94-437, as amended by Public Law 102-573. This program is described at 93.231 in the Catalog of Federal Domestic Assistance (CFDA).

This limited competition seeks to improve American Indian and Alaska Native (AI/AN) maternal and infant outcomes in key populations through surveillance and outreach projects conducted by existing Tribal and urban Indian epidemiology centers. Enhancement of MCH epidemiology activities currently underway in select disparate populations is necessary to reduce IM.

The purpose of this announcement is to respond to the Department of Health and Human Services Closing the Health Disparities Gap on SIDS and IM in AI/AN populations. Urban and Tribal Epidemiology Centers provide surveillance, monitoring, conduct studies and apply interventions to reduce risk of IM in defined regions. Enhancement of AI/AN MCH surveillance will build Tribal public health infrastructure and complement outreach projects. Existing expertise in MCH epidemiology and a history of regional MCH support is required to address risk factors of SIDS and IM. This limited competition will augment existing expertise in MCH epidemiology to address risk factors of SIDS and IM. This announcement is specifically geared toward all eligible MCH programs who lack resources to serve targeted AI/AN populations under this initiative. Eligible Epi Centers under this announcement are geographically located in Arizona, Iowa, Nebraska, Nevada, North Dakota, South Dakota, Utah, and/or with urban Indian organizations. The nature of these projects will require collaboration with the IHS MCH Program to: (1) Coordinate activities, (2) participate in projects, investigations, or studies of national scope, and (3) share surveillance and other data collected, in compliance with the Federal Privacy Act, HIPAA, or similar Tribal laws. The IHS will, therefore, have substantial programmatic involvement in these projects (see II. B. IHS Activities below).

II. Award Information

Type of Awards: Cooperative Agreement.

Estimated Funds Available: The total amount identified for fiscal year (FY) 2007 is $375,000. The awards are for twelve months in duration and the average award is approximately $125,000. Awards under this announcement are subject to the availability of funds.

Anticipated Number of Awards: An estimate of three awards will be made under this program announcement.

Project Period: Twelve months.

Award Amount: $125,000, per year.

A. Requirements of Recipient Activities

Submit a proposal including all of the following:

1. Maintain a MCH Program Manager to support MCH activities within the Urban Indian or Tribal Epidemiology Center (TEC) or regional TEC.

2. Enhance an existing workplan to conduct MCH Regional Surveillance that complements state and national activities. Assist AI/AN communities, Tribal organizations, and urban Indian organizations in MCH surveillance systems and identifying their highest priority MCH health status objectives based on epidemiologic data.

3. Elaborate on Perinatal data systems to be used and integrate into current epi activities i.e. Sexually Transmitted Diseases', injuries, tobacco, issues affecting women during the child bearing years, infants and children. Include clinical data, vital statistics, epidemiologic data, and monitoring of local Tribal or community SIDS initiatives. States with the Centers for Disease Control/Prevention (CDC) Pregnancy Risk Assessment Monitoring Surveillance system provide an ongoing and ready source of data on maternal health and birth outcomes.

4. Annotate how staff will maintain knowledge of the scientific literature related to MCH epidemiology, statistics, surveillance, Healthy People 2010 Objectives, and other disease control activities.

5. Monitor 2010 goals, MCH Chapter 16 objectives and sub-objectives for AI/ AN populations.

6. Assist Tribal clinics, urban and direct care perinatal programs in their evidence-based interventions around SIDS Risk Reduction and “Closing the Health Gap in Infant Mortality,” where applicable (i.e., Aberdeen, Billings and Navajo Areas).

7. Participate in the sharing, improving, and disseminating aggregate perinatal and MCH health data at local, regional, national meetings and with other IHS Programs for purposes of advocacy for AI/AN communities.

8. Develop and implement MCH epidemiologic studies that have practical application in improving the health status of constituent communities. Studies may require Institutional Review Board approval if human subjects are involved.

9. Develop and implement MCH Epidemiology and prevention programs in cooperation with other public health entities.

10. Ensure the coordination of services and program activities with other similar programs.

11. Establish (if not existing) a broad-based council with representative regional membership from the MCH community involved with AI/AN communities. These consortia will advise and support the program. Such an advisory council would consist of technical experts in MCH epidemiology; Title V (HRSA funded sites such as Healthy Starts), Fetal Infant Mortality Review teams, Perinatal Infant Mortality Review Teams, or Child Death Review Teams, perinatal clinical care networks and providers. These may include regional neonatal intensive care units, feto-maternal medicine units, State infant morality reduction initiatives, maternal tobacco or alcohol and drug exposure activities. Tribal and public health departments, community health representatives, public health nurse, health care providers, and others who could provide overall program direction and guidance should be involved. This consortium should be involved in recommendations for targeting of MCH public health needed by constituents.

12. Provide annual, semiannual reports on activities to National MCH Epidemiology Project Manager.

13. Provide letters of support for supplemental funding for the above outlined MCH activities by collaborating agencies, Tribal governments, etc.

14. Include a line item budget, a budget justification and narrative for Program activities which must include planned travel to three national meetings/trainings as well as all local travel outlined in the workplan.

Requirements of IHS Program Activities

1. The IHS MCH Program will provide oversight and coordination of MCH activities at the Epicenters. A working relationship with Area and National Statistics Program will be maintained.

2. Provide funded TEC with ongoing consultation and technical assistance in each of the above Recipient Activities components.

3. Interpret current scientific literature related to epidemiology, statistics, surveillance, Healthy People 2010 Objectives, and evidence-based practices.

4. Assist in the implementation of each workplan component: needs assessment, surveillance, epidemiologic analysis, outbreak investigation, development of epidemiologic studies, development of disease control programs, and coordination of activities.

5. Convene in conjunction with the annual CDC MCH Epidemiology meeting a workshop of funded organizations every year for information-sharing and problem-solving.

6. Conduct site visits to assess program progress and mutually resolve problems, as needed, and/or coordinate reverse site visits. Provide linkages to other IHS programs on an as needed basis i.e. Injury Prevention, Emergency Medical Services for Children, Behavioral Health, and Statistics Program.

7. Coordinate all MCH epidemiologic activities, reporting documents on a national basis. Review, make recommendations and approve semiannual and annual reports. Forward such reports to Agency and Closing the Health Disparities Gap Initiative leads. Disseminate findings and recommendations.

8. Apprise National Programs in Albuquerque on updates on the Closing the Health Disparities GAP SIDS and Infant Mortality, and

9. Oversee development, implementation and participate in the annual Epicenter MCH meetings and trainings.

Eligibility Information

1. Eligible Applicant: Urban Indian Organizations, as defined by 25 U.S.C. 1603(h), Tribal Organizations, and federally recognized Tribes that currently operate IHS EpiCenters.

IHS Epicenters serving AI/AN populations in Arizona, Iowa, Nebraska, Nevada, North Dakota, South Dakota, Utah, and/or with urban Indian organizations are eligible to submit proposals for this limited competition. Epicenters working in these states and metropolitan areas must require base funding to address IM in order to receive support. AI/AN Tribes, Tribal organizations, and eligible inter-Tribal consortia or Indian organizations representing a population of at least 60,000 AI/AN will be considered to be eligible. A letter of support and collaboration should be included in the application.

The following documentation is required to support the status of the organization:

A. An official and signed Tribal Resolution(s).

B. Nonprofit organizations must submit a copy of the 501 (c)(3) Certificate.

2. Cost Sharing or Matching—The MCH Program does not require matching funds or cost sharing.

3. Other Requirements—If the application budget exceeds $125,000 it will not be considered for review.

Application and Submission Information

1. Applicant package may be found in Grants.gov (www.grants.gov) or at: http://www.ihs.gov/NonMedicalPrograms/gogp/gogp_funding.asp. Information regarding the electronic application process may be directed to Michelle G. Bulls, at (301) 443-6290.

2. Content and Form of Application Submission:

• Be single spaced.

• Be typewritten.

• Have consecutively numbered pages.

• Use black type not smaller than 12 characters per one inch.

• Contain a narrative that does not exceed 12 typed pages that includes the other submission requirements below. The 12 page narrative does not include the work plan, standard forms, Tribal resolutions or letters of support (if necessary), table of contents, budget, budget justifications, narratives, and/or other appendix items.

Public Policy Requirements: All Federal-wide public policies apply to IHS grants with exception of Lobbying and Discrimination.

3. Submission Dates and Times: Applications must be submitted electronically through Grants.gov by 12 midnight Eastern Standard Time (EST). If technical challenges arise and the applicant is unable to successfully complete the electronic application process, the applicant must contact Michelle G. Bulls, Grants Policy Staff fifteen days prior to the application deadline and advise of the difficulties that your organization is experiencing. The grantee must obtain prior approval, in writing (e-mails are acceptable) allowing for paper submission. Otherwise, applications not submitted through Grants.gov will be returned to the applicant without review or consideration. The paper application (original and 1 copy) must be mailed to the Division of Grants Operations (DGO), 801 Thompson Avenue, TMP 360, Rockville, MD 20852 by May 15, 2007. Applicants should request a legibly dated U.S. Postal Service postmark or obtain a legibly dated receipt from a commercial carrier or U.S. Postal Service. Private metered postmarks will not be acceptable as proof of timely mailing. Late applications will not be considered for review and will be returned to the applicant without further consideration.

4. Intergovernmental Review: Executive Order 12372 requiring intergovernmental review is not applicable to this program.

5. Funding Restrictions:

• Pre-award costs are allowable pending prior approval from the awarding agency. However, in accordance with 45 CFR part 74 all pre-award costs are incurred at the recipient's risk. The awarding office is under no obligation to reimburse such costs if for any reason the applicant does not receive an award or if the award to the recipient is less than anticipated.

• The available funds are inclusive of direct and appropriate indirect costs.

• Only one cooperative agreement will be awarded per applicant.

• IHS will not acknowledge receipt of applications.

6. Other Submission Requirements:

Electronic Submission—The preferred method for receipt of applications is electronic submission through Grants.gov. However, should any technical challenges arise regarding the submission, please contact Grants.gov Customer Support at 1-800-518-4726 or support@grants.gov. The Contact Center hours of operation are Monday—Friday from 7 a.m. to 9 p.m. EST. If you require additional assistance please call (301) 443-6290 and identify the need for assistance regarding your Grants.gov application. Your call will be transferred to the appropriate grants staff member. The applicant must seek assistance at least fifteen days prior to the application deadline. Applicants that don't adhere to the timelines for Central Contractor Registry (CCR) and/or Grants.gov registration and/or requesting timely assistance with technical issues will not be a candidate for paper applications.

To submit an application electronically, please use the http://www.Grants.gov apply site. Download a copy of the application package, on the Grants.gov Web site, complete it offline and then upload and submit the application via the Grants.gov site. You may not e-mail an electronic copy of a grant application to IHS.

Please be reminded of the following:

• Under the new IHS application submission requirements, paper applications are not the preferred method. However, if you have technical problems submitting your application on-line, please directly contact Grants.gov Customer Support at: http://www.grants.gov/CustomerSupport

• Upon contacting Grants.gov obtain a tracking number as proof of contact. The tracking number is helpful if there are technical issues that cannot be resolved and a waiver request from Grants Policy must be obtained.

• If it is determined that a formal waiver is necessary, the applicant must submit a request, in writing (e-mails are acceptable), to Michelle.Bulls@ihs.gov that includes a justification for the need to deviate from the standard electronic submission process. Upon receipt of approval, a hard-copy application package must be downloaded by the applicant from Grants.gov, and sent directly to the Division of Grants Operations, 801 Thompson Avenue, TMP 360, and Rockville, MD 20852 by the due date, May 15, 2007.

• Upon entering the Grants.gov site, there is information available that outlines the requirements to the applicant regarding electronic submission of an application through Grants.gov, as well as the hours of operation. We strongly encourage all applicants not to wait until the deadline date to begin the application process through Grants.gov as the registration process for CCR and Grants.gov could take up to fifteen working days.

• To use Grants.gov, you, as the applicant, must have a DUNS Number and register in the CCR. You should allow a minimum of ten days working days to complete CCR registration. See below on how to apply.

• You must submit all documents electronically, including all information typically included on the SF-424 and all necessary assurances and certifications.

• Please use the optional attachment feature in Grants.gov to attached additional documentation that may be requested by IHS.

• If Tribal resolutions or letters of support are required, please fax it to the Grants Management Specialist identified in this announcement.

• Your application must comply with any page limitation requirements described in the program announcement.

• After you electronically submit your application, you will receive an automatic acknowledgment from Grants.gov that contains a Grants.gov tracking number. The IHS, DGO will retrieve your 13 application from Grants.gov. DGO will not notify applicants that the application has been received.

• You may access the electronic application for this program on http://www.Grants.gov.

• You must search for the downloadable application package CFDA number 93.231.

E-mail applications will not be accepted under this announcement.

DUNS Number

Applicants are required to have a Dun and Bradstreet (DUNS) number to apply for a grant or cooperative agreement from the Federal Government. The DUNS number is a nine-digit identification number, which uniquely identifies business entities. Obtaining a DUNS number is easy and there is no charge. To obtain a DUNS number, access http://www.dunandbradstreet.com or call 1-866-705-5711. Interested parties may wish to obtain their DUNS number by phone to expedite the process.

Applications submitted electronically must also be registered with the CCR. A DUNS number is required before CCR registration can be completed. Many organizations may already have a DUNS number. Please use the number listed above to investigate whether or not your organization has a DUNS number.

Registration with the CCR is free of charge.

Applicants may register by calling 1-888-227-2423. Please review and complete the CCR Registration Worksheet located on http://www.grants.gov/CCRRegister.

More detailed information regarding these registration processes can be found at http://www.grants.gov.

Application Review Information

The MCH Program has as its goal the reduction of IM and its underlying causes to a rate of 4.5 infant deaths per 1,000 live births by the year 2010.

1. Criteria

A. Introduction, Current Capacity, and Need for Assistance (20 Points)

1. Describe the applicant's current MCH epidemiology activities including whether the applicant has an adequate health department, how long it has been operating, what MCH programs or MCH surveillance is currently provided that would be augmented, and interactions with other MCH public health authorities in the regions (State, local, or Tribal).

2. Provide a physical location of the TEC and area to be served by the proposed project including a map (include the map in the attachments).

3. Describe the relationship between this program and other funded work relevant to MCH that is planned, anticipated, or underway.

Project Work Plan and Objectives (40 Points)

1. State in measurable and realistic terms the objectives and appropriate activities to achieve the program goals as listed below.

a. Enhance surveillance of perinatal disease conditions.

b. Conduct epidemiologic analysis, interpretation, and dissemination of surveillance data.

c. Investigate outbreaks or elevated rates.

d. Develop and implement epidemiologic studies where appropriate.

e. Develop and implement SIDS reduction and risk reduction programs and coordination of activities with other public health authorities in the region.

2. Identify the expected results, benefits, and outcomes or products to be derived from each objective ofthe project.

3. Include a work plan for each objective that indicates when the objectives and major activities will be accomplished and who will conduct the activities on a calendar time line.

4. Specify the responsible person who will review and accept the work to be performed.

C. Project Evaluation (15 Points)

1. State how project objectives will be achieved.

2. Define the criteria to be used to evaluate results.

3. Explain the methodology that will be used to determine if the needs identified for the project are being met and if the outcomes identified are being achieved.

Organization Capabilities and Qualifications (15 Points)

1. Explain the management and administrative structure of the organization including documentation of current certified financial management systems from the Bureau of Indian Affairs, IHS, or a Certified Public Accountant and an updated organization chart (include chart in the attachments).

2. Describe the ability of the organization to manage a project of the proposed scope.

3. Provide position descriptions and resumes/biosketch of key personnel, including those of consultants or contractors in the Appendix. Position descriptions should very clearly describe each position and its duties, indicating desired qualification and experience requirements related to the project. Resumes should indicate that the proposed staff is qualified to carry out the project activities.

E. Categorical Budget and Budget Justification (10 Points)

1. Provide a detailed budget by line item for each year.

2. Provide a justification by line item in the budget including sufficient cost and other details to facilitate the determination of cost allowability and relevance of these costs to the proposed project. The funds requested should be appropriate and necessary for the scope of the project.

3. Describe where the TEC will be housed, i.e., facilities and equipment available.

4. Provide a detailed scope of work that clearly defines the deliverables or outcomes for a consultant or contractor, if applicable.

5. If applicant is requesting indirect cost rate (IDC), a current negotiated rate must be submitted as an attachment with the application.

6. Attachments to include:

a. Attached resumes/bio-sketch and job descriptions for the key staff.

b. Current approved organizational chart.

c. A map of the area to benefit from the project.

d. Copy of the negotiated IDC rate agreement, if applicable.

e. Letters of support/collaboration.

2. Review and Selection Process

Applications submitted by the closing date and verified by electronic submission or the postmark under this program announcement will undergo a review to determine that:

A. The applicant is eligible in accordance with the Eligibility Section of this application.

B. Letters of support/collaboration are included.

C. The application executive summary, forms and materials submitted are adequate to allow the review panel to undertake an in-depth evaluation.

D. The application complies with this announcement; otherwise it will be returned without consideration.

3. Competitive Review of Eligible Application Review

May 17, 2007.

Applications meeting eligibility requirements that are complete, responsive, and conform to this program announcement will be reviewed for merit by assigned field readers appointed by the IHS to review and make recommendations on these applications. The reviews will be conducted in accordance with the IHS objectives review procedures. The technical review process ensures selection of quality projects in a national competition for limited funding. Applications will be evaluated and rated on the basis of the list above.

VI. Award Administration Information

1. Award Notices

The Notice of Award (NoA) will be initiated by the DGO and will be mailed via postal mail to each entity that is approved for funding under this announcement. The NoA will be signed by the Grants Management Officer and this is the authorizing document for which funds are dispersed to the approved entities. The NoA will serve as the official notification of the grant award and will reflect the amount of Federal funds awarded the purpose of the grant, the terms and conditions of the award, the effective date of the award, and the budget/project period. The NoA is the legal binding document. Applicants who are approved but unfunded or disapproved based on their Objective Review score will receive a copy of the Executive Summary which identifies the weaknesses and strengths of the application submitted.

2. Administrative and National Policy Requirements

Grants are administrated in accordance with the following documents:

• This Program Announcement.

• 45 CFR part 92, “Uniform Administrative Requirements for Grants and Cooperative Agreements to State, Local and Tribal Governments,” or 45 CFR part 74, “Uniform Administrative Requirements for Awards to Institutions of Higher Education, Hospitals, Other Non-Profit Organizations, and Commercial Organizations, (Title 2 part 230).

• Grants Policy Guidance: HHS Grants Policy Statement, January 2007.

• Appropriate Cost Principles: OMB Circular A-87, “State, Local, and Indian Tribal Governments,” or OMB Circular A-122, “Non-profit Organizations.”

• OMB Circular A-133, “Audits of States, Local Governments, and Non-profit Organizations.”

• Other applicable OMB circulars.

• Indirect Costs: This section applies to all grant recipients that request IDC in their application. In accordance with HHS Grants Policy Statement, Part II-27, IHS requires applicants to have a current IDC rate agreement in place prior to award. The rate agreement must be prepared in accordance with the applicable cost principles and guidance as provided by the agency or office. A current rate means the rate covering the applicable activities and the award budget period. If the current rate is not on file with the awarding office, the indirect cost portion will be restricted until the current rate is provided to DGO.

Generally, IDC rates for IHS Tribal organization grantees are negotiated with the Division of Cost Allocation http://rates.psc.gov/ and IDC rates for Federal recognized Tribes are negotiation with the Department of Interior. If your organization has questions regarding the IDC policy, please contact the DGO at 301-443-5204.

3. Reporting

A. Progress Report. Progress reports are required semi-annually. These reports will include a brief comparison of actual accomplishments to the goals and tasks established for the period, reasons for slippage (if applicable), and other pertinent information as required. A final report must be submitted within 90 days of expiration of the budget/project period.

B. Financial Status Report. Semi-annual financial status report must be submitted within 30 days of the end of the six month period. Final financial status report is due within 90 days after the expiration of the budget/project period. Standard Form 269 (long form) must be used for financial reporting report unless the grantee generates Program Income, and then the Standard From 269 (short form) must be used. Grantees are responsible and accountable for accurate reporting of the Progress Report and Financial Status Report which are generally due semi-annually. Financial Status Report (SF-269) is due 90 days after each budget period and the final SF-269 must be verified from the grantee records on how the value was derived. Grantees must submit reports in a reasonable period of time.

Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This applies whether the delinquency is attributable to the failure of the grantee organization or the individual responsible for preparation of the reports.

Telecommunication for the hearing impaired is available at: TTY 301-443-6394.

VII. Agency Contact(s)

1. For program-related information: Judith Thierry, D.O., M.P.H., Maternal and Child Health Coordinator, Maternal and Child Health Program, Indian Health Service, 801 Thompson Avenue, Suite 300, Rm 313, Rockville, Maryland 20852, voice: 301-443-5070, fax: 301-594-6213 or judith.thierry@ihs.gov.

For general information regarding this announcement: Ms. Orie Platero, IHS Headquarters, Office of Clinical and Preventive Services, 801 Thompson Avenue, Room 326, Rockville, MD 20852, (301) 443-2522 or orie.platero@ihs.gov.

3. For specific grant-related and business management information: Martha Redhouse, Grants Management Specialist, 801 Thompson Avenue, TMP 360, Rockville, MD 20852, 301-443-5204 or Martha.redhouse@ihs.gov.

VIII. Other Information

The IHS is focusing efforts on three health initiatives that linked together, have the potential to achieve positive improvements in the health of American Indian and Alaska Native (AI/AN) people. These three initiatives are Health Promotion/Disease Prevention, Management of Chronic Disease, and Behavioral Health. Further information is available at the Health Initiatives Web site: http://www.ihs.gov/nonMedical/Programs/DirInitiatives/index.cfm.

This agreement supports the Department of Health and Human Services' objective in FY 2006 to transform the health care system as well as the FY 2007 objective to emphasize prevention and healthy living as well as to accelerate personalized health care.

Dated: April 19, 2007.
Robert G. McSwain,
Deputy Director, Indian Health Service.

[FR Doc. 07-2051 Filed 4-25-07; 8:45 am]

BILLING CODE 4165-16-M